DEPARTMENT OF AGRICULTURE

Animal and Plant Health Inspection Service

7 CFR Part 340

[Docket No. APHIS-2008-0023]

RIN 0579-AC31

Importation, Interstate Movement, and Release Into the Environment of Certain Genetically Engineered Organisms

AGENCY: Animal and Plant Health Inspection Service, USDA.

ACTION: Proposed rule; notice of public meeting and extension of comment period.

SUMMARY: We are advising the public that the Animal and Plant Health Inspection Service is holding an issue-focused public meeting on April 29 and 30, 2009, on its proposed rule, “Importation, Interstate Movement, and Release Into the Environment of Certain Genetically Engineered Organisms.” The April 2009 issue meeting will provide an opportunity for interested persons to discuss in a collaborative forum the key concerns that were raised during the comment period on the proposed rule with U.S. Department of Agriculture officials and with one another.

DATES: The comment period of the proposed rule published at 73 FR 60007, Oct. 9, 2008, reopened and extended at 74 FR 2907, Jan. 16, 2009, is reopened and extended until June 29, 2009. The public meeting will be held on April 29 and 30, 2009, from 9 a.m. to 5 p.m. each day. We will consider all comments that we receive on the proposed rule on or before June 29, 2009.

ADDRESSES: The public meeting will be held at the USDA Center at Riverside, 4700 River Road, Riverdale, MD, in Conference Room B. For directions or facilities information, call (301) 734-8010.

You may submit comments by either of the following methods:

• Federal eRulemaking Portal: Go to http://www.regulations.gov/fdmspublic/component/main?main=DocketDetail&d=APHIS-2008-0023 to submit or view comments and to view supporting and related materials available electronically.

• Postal Mail/Commercial Delivery: Please send two copies of your comment to Docket No. APHIS-2008-0023, Regulatory Analysis and Development, PPD, APHIS, Station 3A-03.8, 4700 River Road Unit 118, Riverdale, MD 20737-1238. Please state that your comment refers to Docket No. APHIS-2008-0023.

Registration and Other Information: If you plan to attend the public meeting, please register prior to the meeting at http://web01.aphis.usda.gov/BRS_PublicMeeting.nsf/. Additional details regarding the agenda and format of the meeting are available on the APHIS Web site at http://www.aphis.usda.gov/biotechnology/340/340_index.shtml.

FOR FURTHER INFORMATION CONTACT: Mr. Richard Coker, Biotechnology Regulatory Services, APHIS, 4700 River Road Unit 147, Riverdale, MD 20737-1238; (301) 734-5720.

SUPPLEMENTARY INFORMATION:

Background

On October 9, 2008, the Animal and Plant Health Inspection Service (APHIS) published in the Federal Register (73 FR 60007-60048, Docket No. APHIS-2008-0023) a proposal ¹ to revise our regulations in 7 CFR part 340 regarding the importation, interstate movement, and environmental release of certain genetically engineered (GE) organisms. The proposed revisions would bring the regulations into alignment with authorities of the Plant Protection Act (7 U.S.C. 7701 et seq.) and update the regulations in response to advances in genetic science and technology and our accumulated experience in implementing the current regulations. APHIS sought public comment on the proposal from October 9, 2008, to November 24, 2008.

¹ To view the proposed rule, supporting documents, and the comments we have received, go to http://www.regulations.gov/fdmspublic/component/main?main=DocketDetail&d=APHIS-2008-0023.

On January 16, 2009, APHIS published in the Federal Register (74 FR 2907-2909, Docket No. APHIS-2008-0023) a notice announcing the reopening of the comment period for the proposed rule for an additional 60 days and particularly seeking additional comments on the following four issues:

Issue 1: Scope of the regulation and which GE organisms should be regulated.

Issue 2: Incorporation into the APHIS part 340 regulations the Plant Protection Act's noxious weed authority.

Issue 3: Elimination of the notification procedure and revision of the permit procedure.

Issue 4: Environmental release permit categories and regulation of GE crops that produce pharmaceutical and industrial compounds.

All four issues were among those that have been raised in the comments we have received so far on the proposed rule. In some cases commenters identified concerns about these issues, but did not provide specific suggestions as to how the proposed rule could be modified to address these concerns. By extending the comment period, APHIS is seeking to increase the transparency of the rulemaking process and elicit more specific information and detailed suggestions regarding these issues. We noted in the January 2009 notice reopening the comment period that APHIS intends to hold an additional public meeting on the proposed rule during the extended public comment period. To ensure that we identified the full range of topics for the April meeting's agenda, we held a scoping session on March 13, 2009. That scoping session was announced in a notice published in the Federal Register on March 11, 2009 (74 FR 10517-10518, Docket No. APHIS-2008-0023).

The March 13, 2009, scoping session began with a discussion of the topics to be included on the agenda for the April 2009 meeting, including the four specific issues described above on which the Agency is seeking comment. Those four issues will be discussed during the April 2009 meeting, along with other significant issues deemed appropriate by APHIS based on suggestions offered by those who attended the March 2009 scoping session. The meeting participants at the scoping session also offered suggestions regarding collaborative meeting formats that could help ensure that the agenda issues will be frankly and fully explored during the April 2009 meeting.

This issue-focused meeting will be open to the public. The proceedings will be transcribed, and the transcripts will be made part of the rulemaking record. The meeting is intended to provide a forum for all interested parties to attend and participate in all the discussions to foster focused, substantive dialogue on the key issues.

Those wishing to attend the April 29 and 30, 2009, meeting may register on the Internet at http://web01.aphis.usda.gov/BRS_PublicMeeting.nsf/. If you require a sign language interpreter or other special accommodations, you may provide this information when you register or by contacting the person listed under FOR FURTHER INFORMATION CONTACT.

Parking and Security Procedures

Please note that a fee of $3.00 in exact change is required to enter the parking lot at the USDA Center at Riverside. The machine accepts $1 bills or quarters.

Upon entering the building, visitors should inform security personnel that they are attending the 340 Proposed Rule public meeting. State-issued photo identification is required and all bags will be screened. Security personnel will direct visitors to the registration tables located outside of Conference Room B on the first floor. Registration upon arrival is required for all participants.

Extension of Comment Period

In the March 2009 notice that announced the scoping meeting described above, we also announced that the comment period for the proposed rule will be extended for 60 days following the April meeting, and that the new date for the close of the comment period would be provided in the notice announcing the date and other details for the April 2009 meeting. The new date for the close of the comment period will be June 29, 2009, which is 60 days after April 30, 2009, the second day of our public meeting. Persons wishing to submit written comments on the proposed rule may continue to do so until June 29, 2009, using either of the methods described under ADDRESSES above.

Done in Washington, DC, this 7th day of April 2009.
Kevin Shea,
Acting Administrator, Animal and Plant Health Inspection Service.

[FR Doc. E9-8352 Filed 4-10-09; 8:45 am]

BILLING CODE 3410-34-P